DEPARTMENT OF ENERGY

Federal Energy Regulatory Commission

Combined Notice of Filings

Take notice that the Commission has received the following Natural Gas Pipeline Rate and Refund Report filings:

Filings Instituting Proceedings

Docket Numbers: RP26-504-000.

Applicants: Gillis Hub Pipeline, LLC.

Description: § 4(d) Rate Filing: GHP 2026 Annual Adjustment of Fuel Retainage Perc to be effective 4/1/2026.

Filed Date: 2/20/26.

Accession Number: 20260220-5174.

Comment Date: 5 p.m. ET 3/4/26.

Docket Numbers: RP26-505-000.

Applicants: Empire Pipeline, Inc.

Description: § 4(d) Rate Filing: Empire Fuel Tracker per GT&C 23.3 (2026) to be effective 4/1/2026.

Filed Date: 2/20/26.

Accession Number: 20260220-5175.

Comment Date: 5 p.m. ET 3/4/26.

Docket Numbers: RP26-506-000.

Applicants: Rockies Express Pipeline LLC.

Description: Compliance filing: REX 2026-02-20 Fuel and L&U Reimbursement Percentages and Power Cost Charges to be effective N/A.

Filed Date: 2/20/26.

Accession Number: 20260220-5190.

Comment Date: 5 p.m. ET 3/4/26.

Docket Numbers: RP26-507-000.

Applicants: UGI Sunbury, LLC.

Description: § 4(d) Rate Filing: Annual Retainage Adjustment Filing 2-20-2026 to be effective 4/1/2026.

Filed Date: 2/20/26.

Accession Number: 20260220-5236

Comment Date: 5 p.m. ET 3/4/26.

Docket Numbers: RP26-508-000.

Applicants: UGI Mt. Bethel Pipeline Company, LLC.

Description: Annual Retainage Adjustment Mechanism Report of UGI Mt. Bethel Pipeline Company, LLC.

Filed Date: 2/20/26.

Accession Number: 20260220-5270.

Comment Date: 5 p.m. ET 3/4/26.

Docket Numbers: RP26-509-000.

Applicants: Black Hills Shoshone Pipeline, LLC.

Description: § 4(d) Rate Filing: Black Hills Shoshone 2026 LAUF Filing to be effective 4/1/2026.

Filed Date: 2/23/26.

Accession Number: 20260223-5000.

Comment Date: 5 p.m. ET 3/9/26.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: February 23, 2026.
Carlos D. Clay,
Deputy Secretary.

[FR Doc. 2026-03869 Filed 2-25-26; 8:45 am]

BILLING CODE 6717-01-P